DEPARTMENT OF TRANSPORTATION

Coast Guard

33 CFR Part 165

[CGD09-01-075]

RIN 2115-AA97

Safety Zone; Summerfest 2000—Harbor Island Lagoon Activities, Milwaukee, Wisconsin

AGENCY: Coast Guard, DOT.

ACTION: Temporary final rule.

SUMMARY: The Coast Guard is establishing a temporary safety zone which encompasses all of the Harbor Island Lagoon area in Milwaukee Harbor. This safety zone is necessary to protect personnel and property associated with Summerfest's Hole-In-One Golf Shoot as well as waterborne stunt/skill shows. This safety zone is intended to restrict vessel traffic from the waters of Harbor Island Lagoon.

DATES: This regulation is effective from 6 a.m. (CST) on June 28, 2001, through 12 midnight (CST) on July 12, 2001.

ADDRESSES: Comments and material received from the public, as well as documents indicated in this preamble as being available in the docket, are part of docket CGD09-01-047 and are available for inspection or copying at Marine Safety Office (MSO) Milwaukee between 7 a.m. CST and 3:30 p.m. CST, Monday through Friday, except Federal holidays.

FOR FURTHER INFORMATION CONTACT: LCDR Timothy Sickler, Port Operations Chief, MSO Milwaukee, 2420 S. Lincoln Memorial Drive, Milwaukee, WI 53207. The phone number is (414) 747-7155

SUPPLEMENTARY INFORMATION:

Regulatory Information

We did not publish a notice of proposed rulemaking (NPRM) for this regulation. Under 5 U.S.C. 553(b)(B), the Coast Guard finds that good cause exists for not publishing an NPRM, and, under 5 U.S.C. 553(d)(3), good cause exists for making this rule effective less than 30 days after publication in the Federal Register. The permit application did not allow sufficient time for publication of an NPRM followed by a temporary final rule effective 30 days after publication. Any delay of the effective date of this rule would be contrary to the public interest due to the known hazards associated with the waterborne stunt/skill shows being performed in the Harbor Island Lagoon area and the possible loss of life, injury, and damage to property.

Background and Purpose

This safety zone is established to safeguard the public from hazards associated with the waterborne stunt/skill shows being performed in the Harbor Island Lagoon area. The size of the zone was determined by using previous experiences with waterborne stunt/skill shows in the Captain of the Port Milwaukee zone and local knowledge about wind, waves, and currents in this particular area.

The safety zone will be in effect from Thursday, June 28, 2001, at 6 a.m. (CST) through Thursday, July 12, 2001, at 12:00 midnight (CST) for the following coordinates: from 43° 02.015′N, 087° 53.767′W, on the Harbor Island point across the channel to 43° 02.058′N, 087° 53.841′W at the Summerfest Dock. The entire Harbor Island Lagoon will be secured for the duration of the festival. Emergency vessels are permitted to enter the Safety Zone area with permission from the Captain of the Port or his duly appointed representative.

All persons and vessels shall comply with the instructions of the Captain of the Port Milwaukee or his designated on scene patrol personnel. Entry into, transiting, or anchoring within the safety zone is prohibited unless authorized by the Captain of the Port Milwaukee or his designated on scene representative. The Captain of the Port Milwaukee may be contacted via VHF Channel 16.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979). This safety zone should not adversely effect commercial shipping since shallow water depths do not allow them to transit the affected area.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities: the owners or operators of vessels intending to transit or anchor in the Harbor Island Lagoon area from June 28 to July 12, 2001.

This safety zone will not have a significant economic impact on a substantial number of small entities for the following reasons: The area that is being closed off is limited and its shallow water depths do not allow the transit of commercial shipping. Vessel traffic in the vicinity of Harbor Island Lagoon, Milwaukee, Wisconsin, is prohibited unless authorized by the Coast Guard Captain of the Port or his duly appointed representative. Before the effective period, we will issue maritime advisories widely available to users of the Port of Milwaukee.

Assistance for Small Entities

Under section 213(a) of the Small Business Regulatory Enforcement Fairness Act of 1996 (Pub. L. 104-121), we offered to assist small entities in understanding the rule so that they could better evaluate its effects on them and participate in the rulemaking process. If the rule would affect your small business, organization, or governmental jurisdiction and you have questions concerning its provisions or options for compliance, please contact Marine Safety Office Milwaukee. (See ADDRESSES.)

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this rule and concluded that under figure 2-1, paragraph (34)(g), of Commandant Instruction M16475.lC, this rule is categorically excluded from further environmental documentation.

List of Subjects in 33 CFR Part 165

Harbors, Marine Safety, Navigation (water), Reporting and Recordkeeping requirements, Security Measures, and Waterways.

For the reasons discussed in the preamble, the Coast Guard amends 33 CFR part 165 as follows:

PART 165—[AMENDED]

1. The authority citation for part 165 continues to read as follows:

Authority: 33 U.S.C. 1231; 50 U.S.C. 191, 33 CFR 1.05-1(g), 6.04-1, 6.04-6, 160.5; 49 CFR 1.46.

2. A new temporary § 165.T09-927 is added to read as follows:

§ 165.T09-927 Safety Zone: Milwaukee Harbor, Milwaukee, Wisconsin

(a) Location: All waters of Harbor Island Lagoon (Milwaukee Harbor) south of a line drawn at its mouth from 43° 02.015′ N, 087° 53.767′ W, on the Harbor Island point across to 43° 02.058′ N, 087° 53.841′ W (the Summerfest Dock).

(b) Effective times and dates: From Thursday, June 28, 2001 at 6 a.m. (CST), through Thursday, July 12, 2001, at 12 midnight (CST).

(c) Regulation: (1) The general regulations contained in § 165.23 apply.

(2) All persons and vessels shall comply with the instructions of the Coast Guard Captain of the Port Milwaukee or the designated on scene patrol personnel. Coast Guard patrol personnel including commissioned, warrant or petty officers of the U.S. Coast Guard. Upon being hailed by a U.S. Coast Guard vessel via siren, radio, flashing light, or other means, the operator shall proceed as directed.

(3) The Captain of the Port may be contacted via U.S. Coast Guard Group Milwaukee on Channel 16, VHF-FM.

Dated: June 8, 2001.
M.R. DeVries,
Commander, U.S. Coast Guard, Captain of the Port Milwaukee.

[FR Doc. 01-16489 Filed 6-29-01; 8:45 am]

BILLING CODE 4910-15-U